DEPARTMENT OF ENERGY

Federal Energy Regulatory Commission

[Project No. 67-113]

Southern California Edison Company; Notice of Application and Amended Preliminary Draft Environmental Assessment Tendered for Filing With the Commission, and Establishing Procedual Schedule for Licensing and Deadline for Submission of Final Amendments

March 7, 2007.

Take notice that the following hydroelectric application has been filed with the Commission and is available for public inspection.

a. Type of Application: New License for Major Project-Existing Dam.

b. Project No.: P-67-113.

c. Date Filed: February 23, 2007.

d. Applicant: Southern California Edison Company.

e. Name of Project: Big Creek Nos. 2A, 8 and Eastwood Power Station Hydroelectric Power Project.

f. Location: The Big Creek Nos. 2A, 8 and Eastwood Hydroelectric Project is located in Fresno County, California near the town of Shaver Lake within the South Fork San Joaquin River, Big Creek, and Stevenson Creek watersheds. The project affects 2,143.25 acres of Federal lands.

g. Filed Pursuant to: Federal Power Act 16 U.S.C. 791 (a)-825(r).

h. Applicant Contact: Russ W. Krieger, Vice President, Power Production, Southern California Edison Company, 300 North Lone Hill Ave., San Dimas, California 91773. Phone: (909) 394-8667.

i. FERC Contact: Jim Fargo, (202) 502-6095, or e-mail: james.fargo@ferc.gov.

j. Cooperating Agencies: We are asking Federal, State, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for requests for cooperating agency status: 60 days from the date of this notice. All documents (original and eight copies) should be filed with: Philis J. Posey, Acting Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of Project: The existing Big Creek Nos. 2A, 8 and Eastwood Power Station Hydroelectric Power Project consists of two powerhouses and an underground power station; two major dams and reservoirs; five moderate-sized dams forming two forebays and three small diversion pools; eight small diversions; six water conveyance systems; and one transmission line. The project would have an average annual generation of 1,125,429 megawatt-hours.

• Powerhouses and powerstation (i) Big Creek Powerhouse No. 2A with two turbine/generator units and a total dependable operating capacity of about 98.5 MW; (ii) Powerhouse No. 8 with two turbine/generator units and a dependable operating capacity of about 64.5 MW; and (iii) Eastwood Power Station, with one turbine/pump/generator unit and a dependable operating capacity of about 207 MW.

• Major dams and reservoirs (i) Shaver Dam, forming Shaver Lake, which has a usable storage capacity of about 135,568 ac-ft, at an elevation of about 5,370 ft above mean sea level (msl); and (ii) Florence Dam, forming Florence Lake, which has a usable storage capacity of about 64,406 ac-ft, at an elevation of about 7,327 ft above msl.

• Moderate-sized dams, forebays and diversion pools (i) Balsam Forebay, with a usable storage capacity of about 1,547 ac-ft, at an elevation of about 6,670 ft above msl; (ii) Dam 5 Impoundment (Powerhouse 8 Forebay), with a usable storage capacity of 49 ac-ft, at an elevation of about 2,943 ft above msl; (iii) Pitman Diversion Pool, with a usable capacity of about 1 ac-ft, at an elevation of about 6,900 ft above msl; (iv) Bear Diversion Pool, with a usable capacity of about 103 ac-ft, at an elevation of about 7,350 ft above msl; and (v) Mono Diversion Pool, with a usable capacity of about 47 ac-ft, at an elevation of about 7,350 ft above msl.

• Small diversions (i) Hooper Creek Diversion, with a usable capacity of about 3 ac-ft, at an elevation of about 7,505 ft above msl; (ii) Bolsillo Creek Diversion, with a usable capacity of less than 1 ac-ft, at an elevation of about 7,535 ft above msl; (iii) Chinquapin Creek Diversion, with a usable capacity of less than 1 ac-ft, at an elevation of about 7,629 ft above msl; (iv) Camp 62 Creek Diversion, with a usable capacity of less than 1 ac-ft, at an elevation of about 7,307 ft above msl.

• Water conveyance systems (i) Ward Tunnel, about 12.8 miles long, conveys water from Florence Lake to Huntington Lake (Huntington Lake is a component of FERC Project No. 2175) and has a conveyance capacity of about 1,760 cubic feet per second (cfs). The tunnel receives water from Florence Lake, Mono Creek, Bear Creek, the small tributaries discussed above, and the East and West Forks of Camp 61 Creek (via Portal Forebay, a component of the Portal Project, (FERC Project No. 2174); (ii) Mono-Bear Siphon, about 1.6 miles of flowline from Mono Diversion and 1.4 miles of flowline and tunnel from Bear Creek Diversion connect at the Mono-Bear Wye and continues for about 2.6 miles through a combined flowline/siphon, conveys water from the Mono and Bear diversions to Ward Tunnel. The Mono Tunnel and Bear Tunnel have conveyance capacities of 450 cfs each and the combined flowline/siphon has a conveyance capacity of about 650 cfs; (iii) Huntington-Pitman-Shaver Conduit, also known as Tunnel No. 7, conveys water from Huntington Lake and the Pitman Creek Diversion to Shaver Lake through either North Fork Stevenson Creek or through Balsam Forebay and the Eastwood Power Station. Tunnel No. 7 is about 5.4 miles long and terminates at Gate No. 2 tunnel outlet located on North Fork Stevenson Creek upstream of Shaver Lake. The Balsam Diversion Tunnel is about 1.1 miles long and branches off Tunnel No. 7 about 1,200 ft upstream of the Gate No. 2 outlet, connecting to Balsam Forebay; (iv) Eastwood Power Station and Tailrace Tunnels, which convey water from Balsam Forebay through the Eastwood Power Station to Shaver Lake. The Eastwood Power Station Tunnel is about 1 mile long. The Tailrace Tunnel is about 1.4 miles long. The conveyance capacity of the tunnels is about 2,500 cfs. (v) Tunnel No. 5, about 2.6 miles long, conveys water from Shaver Lake to Big Creek Powerhouse No. 2A and has a conveyance capacity of about 650 cfs. (vi) Tunnel No. 8, about 1 mile long, conveys water from the Dam No. 5 Impoundment just downstream of Powerhouse 2/2A to Powerhouse No. 8, has a conveyance capacity of about 1,173 cfs.

• Transmission line (i) Eastwood Power Station—Big Creek 1 Transmission Line, which connects Eastwood Power Station to a non-Project switchyard at Big Creek Powerhouse No. 1. This transmission line is about 4.7 miles long, and is a 220kV line.

n. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the California State Historic Preservation Officer (SHPO), as required by section 106, National Historic Preservation Act, and the regulations of the Advisory Council on Historic Preservation, 36 CFR 800.4.

p. Procedural schedule and final amendments: The application will be processed according to the following Hydro Licensing Schedule. Revisions to the schedule will be made if the Commission determines it necessary to do so:

Milestone | Tentative date
Issue Acceptance/Deficiency Letter and request Additional Information, if needed | June 2007.
Notice asking for final terms and conditions | September 2007.
Notice of the availability of the draft EIS | March 2008.
Notice of the availability of the final EIS | September 2008.

Final amendments to the application must be filed with the Commission no later than 30 days from the issuance date of the notice soliciting final terms and conditions.

Philis J. Posey,
Acting Secretary.

[FR Doc. E7-4480 Filed 3-12-07; 8:45 am]

BILLING CODE 6717-01-P